DEPARTMENT OF COMMERCE

International Trade Administration

[A-570-924]

Polyethylene Terephthalate Film, Sheet, and Strip From the People's Republic of China: Final Results of Antidumping Duty Administrative Review; 2011-2012

AGENCY: Enforcement and Compliance, International Trade Administration, Department of Commerce.

SUMMARY: On December 26, 2013, the Department of Commerce (the Department) published its Preliminary Results of the 2011-2012 administrative review of the antidumping duty order on polyethylene terephthalate film, sheet, and strip from the People's Republic of China (PRC).¹ The period of review (POR) is November 1, 2011, through October 31, 2012. This review covers six producers/exporters of subject merchandise: (1) Shaoxing Xiangyu Green Packing Co. Ltd. (“Green Packing”); (2) Tianjin Wanhua Co., Ltd. (“Wanhua”); (3) Fuwei Films (Shandong) Co. Ltd. (“Fuwei Films”); (4) Sichuan Dongfang Insulating Material Co., Ltd. (“Dong Fang”); and (5) DuPont Teijin Films China Limited, DuPont Hongji Films Foshan Co., Ltd., and DuPont Teijin Hongji Films Ningbo Co., Ltd (“collectively the “DuPont Group”). Green Packing and Wanhua are the selected mandatory respondents. We invited interested parties to comment on our Preliminary Results. Based on our analysis of the comments received, we made certain changes to our margin calculations for Green Packing. The final dumping margins for this review are listed in the “Final Results” section below.

¹ See Polyethylene Terephthalate Film, Sheet, and Strip From the People's Republic of China: Preliminary Results of Antidumping Duty Administrative Review; 2011-2012, 78 FR 78333 (December 26, 2013) (Preliminary Results), and accompanying Preliminary Decision Memorandum.

DATES: Effective date: July 2, 2014.

FOR FURTHER INFORMATION CONTACT: Thomas Martin or Jonathan Hill, AD/CVD Operations, Office IV, Enforcement and Compliance, International Trade Administration, U.S. Department of Commerce, 14th Street and Constitution Avenue NW., Washington, DC 20230; telephone: (202) 482-3936 or (202) 482-3518, respectively.

Background

On December 26, 2013, the Department published its Preliminary Results. We received case briefs from Mitsubishi Polyester Film, Inc. and SKC, Inc. (collectively “Petitioners”) and Green Packing on February 11, 2014 and February 12, 2014, respectively.² Wanhua resubmitted its case brief to redact certain untimely new factual information on February 28, 2014,³ rebuttal briefs from Petitioners and Wanhua on February 18, 2014. Petitioners resubmitted their rebuttal brief (redacting references to the untimely new information in Wanhua's original case brief) on March 17, 2014.⁴ Additionally, on February 11, 2014, the Department received comments on the draft liquidation instructions from Bemis Company, Inc. and its affiliate, Milprint Inc. (collectively “Bemis”), and a letter in lieu of a case brief from Terphane, Inc., in which Terphane, Inc. states that it supports all arguments made by Petitioners in Petitioners' case brief.⁵

² See Letter from Petitioners, Commerce, “Polyethylene Terephthalate Film, Sheet, and Strip from the People's Republic of China: Petitioners' Case Brief,” dated February 11, 2014; see also letter from Green Packing, “Polyethylene Terephthalate (PET) Film from China,” dated February 12, 2014 (“Green Packing Brief”).

³ See Letter from Wanhua to the Secretary of Commerce, “Polyethylene Terephthalate (PET) Film from the People's Republic of China; A-570-924; Case Brief of Tianjin Wanhua Co., Ltd.,” dated February 28, 2014 (“Wanhua Brief”); see also letter from Howard Smith, Program Manager, Office IV, Enforcement and Compliance to Wanhua dated February 27, 2014 in which the Department rejected Wanhua's Brief for the inclusion of untimely filed information and requested a redacted version be filed by March 5, 2014.

⁴ See Letter from Wanhua, “Polyethylene Terephthalate (PET) Film from the People's Republic of China; A-570-924; Rebuttal Brief of Tianjin Wanhua Co., Ltd.,” dated February 18, 2014; see also letter from Petitioners, “Polyethylene Terephthalate Film, Sheet, and Strip from the People's Republic of China: Petitioners' Rebuttal Brief,” dated February 18, 2014; see also letter from Howard Smith, Program Manager, Office IV, Enforcement and Compliance to Petitioners dated March 14, 2014 in which the Department rejected Petitioners' rebuttal brief for its reference to untimely filed information found in Wanhua's original case brief and requested a redacted version be filed by March 17, 2014.

⁵ See Letter from Bemis to the Secretary of Commerce, “Comments on Draft Liquidation Instructions,” dated February 11, 2014; see also letter from Terphane, Inc. to the Secretary of Commerce “Administrative Review Of The Antidumping Duty Order On Polyethylene Terephthalate (PET) Film, Sheet, And Strip From The People's Republic Of China/Letter In Lieu Of Case Brief,” dated February 11, 2014.

Scope of the Order

The products covered by the order are all gauges of raw, pre-treated, or primed PET film, whether extruded or co-extruded. PET film is classifiable under subheading 3920.62.00.90 of the Harmonized Tariff Schedule of the United States (“HTSUS”).⁶ Although the HTSUS subheadings are provided for convenience and customs purposes, our written description of the scope of the order is dispositive.

⁶ See Memorandum to Paul Piquado, Assistant Secretary for Enforcement and Compliance from Christian Marsh, Deputy Assistant Secretary for Antidumping and Countervailing Duty Operations “Issues and Decision Memorandum for the Final Results of the 2011-2012 Administrative Review,” issued concurrently with this notice (“Issues and Decision Memorandum”) for a complete description of the scope of the Order.

For the full text of the scope of the order, see “Issues and Decision Memorandum for the Final Results of the 2011—2012 Administrative Review,” (“Issues and Decision Memorandum”), dated concurrently with this notice.

Analysis of Comments Received

All issues raised in the case and rebuttal briefs filed by parties in this review are addressed in the Issues and Decision Memorandum, which is hereby adopted by this notice. A list of the issues that parties raised and to which we responded in the Issues and Decision Memorandum follows as an appendix to this notice. The Issues and Decision Memorandum is a public document and is on file electronically via Enforcement and Compliance's Antidumping and Countervailing Duty Centralized Electronic Service System (IA ACCESS). IA ACCESS is available to registered users at http://iaaccess.trade.gov and in the Central Records Unit, room 7046 of the main Department of Commerce building. In addition, a complete version of the Issues and Decision Memorandum can be accessed directly on the Internet at http://enforcement.trade.gov/frn/. The paper copy and electronic version of the Issues and Decision Memorandum are identical in content.

Changes Since the Preliminary Results

Based on a review of the record and comments received from interested parties regarding our Preliminary Results, we revised the margin calculations for Green Packing. Specifically, the Department applied the correct Harmonized Tariff Schedule heading in the calculation of the surrogate value for a certain packing material used by Green Packing.⁷

⁷ See Issues and Decision Memorandum.

Separate Rates

In our Preliminary Results, we determined that Green Packing, Wanhua, Fuwei Films, Dongfang, and the DuPont Group, each demonstrated their eligibility for separate rate status.⁸ We have not received any information since the issuance of the Preliminary Results that provides a basis for reconsideration of this determination. Therefore, the Department continues to find that these companies are each eligible for separate rate status.

⁸ See Preliminary Results, 78 FR at 78333, and accompanying Preliminary Decision Memorandum at “Separate Rate.”

Final Results

We determine that the following weighted-average dumping margins exist for the POR:

Exporter | Weighted-average dumping margin (Percentage)
Shaoxing Xiangyu Green Packing Co. Ltd | 34.00
Tianjin Wanhua Co., Ltd | 22.07
Fuwei Films (Shandong) Co., Ltd.* | 31.24
DuPont Teijin Films China Limited, DuPont Hongji Films Foshan Co., Ltd., and DuPont Teijin Films Hongji Ningbo Co., Ltd.* | 31.24
Sichuan Dongfang Insulating Material Co., Ltd.* | 31.24
* These companies demonstrated eligibility for a separate rate in this administrative review. The rate for these companies is the simple average of the calculated antidumping duty rates for Green Packing and Wanhua.

Assessment Rates

The Department will determine, and U.S. Customs and Border Protection (CBP) shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer- (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise.⁹ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

⁹ See Antidumping Proceedings: Calculation of the Weighted-Average Dumping Margin and Assessment Rate in Certain Antidumping Proceedings: Final Modification, 77 FR 8101, 8103 (February 14, 2012).

The Department announced a refinement to its assessment practice in non-market economy (NME) cases.¹⁰ Pursuant to this refinement in practice, for entries that were not reported in the U.S. sales databases submitted by companies individually examined during this review, the Department will instruct CBP to liquidate such entries at the NME-wide rate (i.e., 76.72 percent).¹¹ For a full discussion of this practice, see Assessment in NME Antidumping Proceedings.

¹⁰ See Non-Market Economy Antidumping Proceedings: Assessment of Antidumping Duties, 76 FR 65694 (October 24, 2011) (“Assessment in NME Antidumping Proceedings”).

¹¹ See Polyethylene Terephthalate Film, Sheet, and Strip from the People's Republic of China: Final Results of the 2009-2010 Antidumping Duty Administrative Review of the Antidumping Duty Order, 77 FR 14493, 14494 (March 12, 2012).

Cash Deposit Requirements

The following cash deposit requirements will be effective upon publication of the final results of this administrative review for shipments of the subject merchandise from the PRC entered, or withdrawn from warehouse, for consumption on or after the publication date, as provided by section 751(a)(2)(C) of the Tariff Act of 1930, as amended (the Act): (1) For the exporters listed above, the cash deposit rate will be the rate listed for each exporter in the table in the “Final Results” section of this notice; (2) for previously investigated or reviewed PRC and non-PRC exporters that received a separate rate in a prior segment of this proceeding, the cash deposit rate will continue to be the existing exporter-specific rate; (3) for all PRC exporters of subject merchandise that have not been found to be entitled a separate rate, the cash deposit rate will be the rate of the PRC-wide entity established in the final determination of the less than fair value investigation (i.e., 76.72 percent); and (4) for all non-PRC exporters of subject merchandise which have not received their own rate, the cash deposit rate will be the rate applicable to the PRC exporter that supplied that non-PRC exporter. These deposit requirements, when imposed, shall remain in effect until further notice.

Disclosure

We intend to disclose the calculations performed regarding these final results within five days of the date of publication of this notice in this proceeding in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and that subsequent assessment of doubled antidumping duties.

Administrative Protective Order (“APO”)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(1) and 777(i) of the Act.

Dated: June 24, 2014.
Paul Piquado,
Assistant Secretary for Enforcement and Compliance.

Appendix—Issues and Decision Memorandum

Summary

Scope of the Order

Discussion of the Issues

General Issues

Issue 1: Surrogate Country Selection

A. Whether South Africa is a Significant Producer of Comparable Merchandise

B. Quality of the Indonesian and South African Surrogate Data to Value FOP

C. Surrogate Financial Statements to Value Financial Ratios

Issue 2: PET Chip Surrogate Value

Issue 3: Treatment of Generated and Reintroduced By-Product

Company-Specific Issues

Issue 4: Treatment of Green Packing's Reintroduced PET Waste By-Product

Issue 5: Green Packing's Sold By-Product

Issue 6: Treatment of Market Economy Purchases (“MEP”)

Issue 6: U.S. Sales Database

Issue 7: Plastic Stopper SV

Issue 8: Value-Added Tax (“VAT”) Adjustment to Wanhua's U.S. Sales Price

Issue 9: Importer of Record for Certain Sales to the U.S.

Recommendation

[FR Doc. 2014-15574 Filed 7-1-14; 8:45 am]

BILLING CODE 3510-DS-P